SMALL BUSINESS ADMINISTRATION

[License No. 03/03-0277]

NewSpring Mezzanine Capital IV, L.P.; Notice Seeking Exemption Under Section 312 of the Small Business Investment Act, Conflicts of Interest

Notice is hereby given that NewSpring Mezzanine Capital IV, L.P. located at 555 East Lancaster Avenue, 3rd Floor, Radnor, PA, 19087, a Federal Licensee under the Small Business Investment Act of 1958, as amended (“the Act”), in connection with a financing involving small concern Radius GMR, LLC located at 120 Fifth Avenue, New York, NY 10011, has sought an exemption under Section 312 of the Act and 13 CFR 107.730—Financings which constitute conflicts of interest.

This financing falls under 13 CFR 107.730(a)(4) because proceeds from the financing will be used discharge obligations owed to NewSpring Mezzanine Capital III L.P., an Associate of NewSpring Mezzanine Capital IV, L.P. Therefore, this transaction requires a prior written exemption from the U.S. Small Business Administration.

Notice is hereby given that any interested person may submit written comments on the transaction within fifteen days of the date of this publication to the Associate Administrator, Office of Investment and Innovation, U.S. Small Business Administration, 409 Third Street SW, Washington, DC 20416.

U.S. Small Business Administration.
Bailey DeVries,
Associate Administrator, Office of Investment and Innovation.

[FR Doc. 2021-28263 Filed 12-28-21; 8:45 am]

BILLING CODE 8026-03-P